DEPARTMENT OF THE INTERIOR

National Park Service

National Register of Historic Places; Notification of Pending Nominations

Nominations for the following properties being considered for listing in the National Register were received by the National Park Service before March 6, 2004. Pursuant to § 60.13 of 36 CFR part 60 written comments concerning the significance of these properties under the National Register criteria for evaluation may be forwarded by United States Postal Service, to the National Register of Historic Places, National Park Service, 1849 C St. NW, 2280, Washington, DC 20240; by all other carriers, National Register of Historic Places, National Park Service, 1201 Eye St. NW, 8th floor, Washington DC 20005; or by fax, (202) 371-6447. Written or faxed comments should be submitted by April 15, 2004.

Carol D. Shull,
Keeper of the National Register of Historic Places.

ALABAMA

Morgan County

New Decatur—Albany Residential Historic District (Boundary Increase), Grant, Jackson, and Sherman St., Gordon and Prospect Drs., Decatur, 04000274.

Colorado

Boulder County

First Baptist Church of Boulder, 1237 Pine St., Boulder, 04000275.

FED. STATES

Kosrae Freely Associated State

Likinlulem, Walung, Walung, Tafunsak, 04000277.

Yap Freely Associated State Dinay Village, Dinay, Rull, 04000276.

FLORIDA

Duval County

South Jacksonville Grammar School, 1450 Flagler Ave., Jacksonville, 04000278.

MISSISSIPPI

Pike County

McComb Downtown Historic District, Roughly bounded by Broadway, State, Front and Canal Sts., McComb, 04000279.

Missouri

St. Louis County

Fairfax House, 9401 Manchester Rd., Rock Hill, 04000280.

St. Louis Independent City

Tower Grove Heights Historic District (Boundary Increase), Roughly bounded by Magnolia St., Louisiana Ave., Cherokee St./Gravois Ave, Grand Ave., St. Louis (Independent City), 04000281.

NEBRASKA

Greeley County

First Presbyterian Church, 260 S. Pine St., Spalding, 04000292.

Lancaster County

Government Square, N 9th to N 10th St., O to P Sts., Lincoln, 04000303.

Nance County

Merrill, Moses, Baptist Camp, NW of Fullerton, Fullerton, 04000295.

Phelps County

Kinner House, 515 Tibbals, Holdrege, 04000294.

NEVADA

Pershing County

Central Pacific Railroad Depot, 1005 W. Broadway Ave., Lovelock, 04000300.

Washoe County

Wadsworth Union Church, Jct. of Lincoln Hwy and Railroad Ave., Wadsworth, 04000298.

NEW YORK

Albany County

St. Nicholas Ukrainian Catholic Church, 4th Ave. and 24th St., Watervliet, 04000288.

Willis, Alexander, House, NY 143, Coeymans, 04000289.

Allegany County

Van Campen, Moses, House, 4690 Birdsall Rd., Angelica, 04000287.

Cayuga County

Yawger, Peter, House, NY 90, Union Springs, 04000283.

Herkimer County

Palatine German Frame House, 4217 NY 5, Herkimer, 04000282.

Kings County

Magen David Synagogue, 2017 67th St., Brooklyn, 04000293.

Monroe County

Shirts, William, House, 196 Harmon Rd., Scottsville, 04000286.

New York County

German Evangelical Lutheran Church of St. Mark, 323 E. 6th St., New York, 04000296.

Lower East Site Historic District (Boundary Increase), Roughly along Division, Rutger, Madison, Henry, Grand Sts., New York, 04000297.

Orleans County

Skinner—Tinkham House, 4652 Oak Orchard Rd., Barre Center, 04000291.

Sullivan County

Manion's General Store, 52 Ferndale Rd., Ferndale, 04000285.

Shelburne Playhouse, Upper Ferndale Rd., Ferndale, 04000284.

Wyoming County

Arcade Center Farm, 7298 NY 98, Attica, 04000290.

NORTH DAKOTA

Walsh County

Strand Theatre, 618 Hill Ave., Grafton, 04000299.

TENNESSEE

Rutherford County

Spence, John C., House, 503 N. Maple St., Murfreesboro, 04000302.

Shelby County

Roulhac, Dr. Christopher M., House, (Memphis MPS), 810 McLemore Ave., Memphis, 04000301.

WASHINGTON

Benton County

Gold Coast Historic District, Roughly bounded by Willis St., Davison Ave., Hunt Ave., Davison Ave., and George Washington Way, Richland, 04000315.

Snohomish County

Point Elliott Treaty Monument, Jct. of Lincoln Ave. and 3rd St., Mukilteo, 04000316.

WEST VIRGINIA

Berkeley County

Clary's Mountain Historic District, Hammond's Mill Rd., Hedgesville, 04000314.

Lee-Throckmorton—McDonald House, 2101 Arden-Nolville Rd., Inwood, 04000312.

Maidstone-on-the-Potomac, 12 Temple Dr., Falling Waters, 04000311.

Overlook, 2910 Harlan Spring Rd., Martinsburg, 04000310.

Spring Mills Historic District, Portions of Hammonds Mill Rd. and Harlan Spring Rd., Martinsburg, 04000308.

Tabler's Station Historic District, Portions of Tabler's Station Rd. and Carlton Dr., Martinsburg, 04000306.

Cabell County

Johnston—Meek House, 203 6th Ave., Huntington, 04000313.

Greenbrier County

Stone Manse, Cty Rd 38, Stonehouse Rd., Caldwell, 04000307.

Kanawha County

Weimer, James, House, 411 Eighth Ave., St. Albans, 04000309.

Marion County

Woodlawn Cemetery, 335 Maple Ave., Fairmont, 04000305.

Randolph County

Tygart Valley Homesteads Historic District, Roughly bounded by U.S. 250/219, Cty Rd. 38 and Cty Rd. 21, Dailey, 04000304.

A request for a MOVE has been made for the following resource:

NEVADA

Washoe County

Lake Mansion, Adjacent to the Centennial Coliseum on U.S. 395, Reno, 72000767.

New Location is Jct. of S. Arlington Ave. at Court St. Reno.

[FR Doc. 04-7140 Filed 3-30-04; 8:45 am]

BILLING CODE 4312-51-P